DEPARTMENT OF TRANSPORTATION

Federal Motor Carrier Safety Administration

Sunshine Act Meetings; Unified Carrier Registration Plan Board of Directors

TIME AND DATE: The meeting will occur on November 1, 2018, from 8:30 a.m. to 4:30 p.m., Eastern Daylight Time, and November 2, 2018, from 8:30 a.m. to 12:00 p.m., Eastern Daylight Time.

PLACE: The meeting will be held at the Fairfield Inn & Suites Cape Cod Hyannis, 867 Iyannough Road, Hyannis, MA 02601, and via conference call. Those who cannot attend the meeting in person may call toll-free (866) 210-1669, passcode 5253902#, to listen and participate.

STATUS: Open to the public.

MATTERS TO BE CONSIDERED: The Unified Carrier Registration Plan Finance Subcommittee will continue developing and implementing the Unified Carrier Registration Plan and Agreement. An agenda for this meeting will be available no later than 5:00 p.m. Eastern Daylight Time, October 22, 2018, at https://ucrplan.org.

CONTACT PERSON FOR MORE INFORMATION: Mr. Avelino Gutierrez, Chair, Unified Carrier Registration Board of Directors, at (505) 827-4565.

Issued on: October 3, 2018.
Larry W. Minor,
Associate Administrator, Office of Policy, Federal Motor Carrier Safety Administration.

[FR Doc. 2018-22117 Filed 10-5-18; 4:15 pm]

BILLING CODE 4910-EX-P